DEPARTMENT OF HEALTH AND HUMAN SERVICES

Administration for Children and Families

[OMB No. 0970-0160]

Proposed Information Collection Activity; Procedures for Requests From Tribal Lead Agencies To Use Child Care and Development Fund Funds for Construction or Major Renovation of Child Care Facilities

AGENCY: Office of Child Care, Administration for Children and Families, U.S. Department of Health and Human Services.

ACTION: Request for public comments.

SUMMARY: The Administration for Children and Families (ACF) is proposing to collect data for the Procedures for Requests from Tribal Lead Agencies to use Child Care and Development Fund (CCDF) Funds for Construction or Major Renovation of Child Care Facilities. This information collection was previously approved by the Office of Management and Budget. The Office of Child Care is proposing to reinstate the information collection with changes.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: 42 U.S.C. 9858m(c)(6) of the Child Care and Development Block Grant Act allows Tribal Lead Agencies to use CCDF grant awards for construction and renovation of child care facilities. A tribal grantee must first request and receive approval from ACF before using funds for construction or major renovation. To use CCDF funds awarded in a given fiscal year on construction or major renovation, a Tribal Lead Agency must submit an application prior to July 1 of that fiscal year. The application deadline applies to direct funded tribes and tribes with CCDF funds integrated into a 477 plan. This information collection contains the statutorily mandated uniform procedures for the solicitation and consideration of requests, protection of federal interest, and instructions for preparation of environmental assessments in conjunction with the National Environmental Policy Act.

Changes requested to the form clarify the process to align with ACF Real Property Guidance, update language regarding submission of the Standard Form (SF-429 cover page, include technical changes regarding the official title of Public Law 102-477 to reflect as the Indian Employment, Training and Related Services Consolidation Act of 2017, and include the correct contact for submission of SF-429 information and updated OMB circular references.

Respondents: Tribal Child Care Lead Agencies acting on behalf of tribal governments.

Annual Burden Estimates
Instrument | Type of burden | Total number of respondents | Total number of responses per respondent | Average burden hours per response | Total burden hours | Annual burden hours
Procedures for Requests from Tribal Lead Agencies to use CCDF Funds for Construction or Major Renovation of Child Care Facilities | Reporting Recordkeeping | 75 | 2 | 5 15 | 750 2,250 | 250 750

Estimated Total Annual Burden Hours: 1,000.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9858(c)(6).

John M. Sweet Jr.,
ACF/OPRE Certifying Officer.

[FR Doc. 2023-00730 Filed 1-13-23; 8:45 am]

BILLING CODE 4184-81-P